DEPARTMENT OF COMMERCE

International Trade Administration

[A-428-801]

Ball Bearings and Parts Thereof From Germany: Preliminary Results of Antidumping Duty Administrative Review and Partial Rescission; 2011-2011

AGENCY: Import Administration, International Trade Administration, Department of Commerce.

SUMMARY: The Department of Commerce (the Department) is conducting an administrative review of the antidumping duty order on ball bearings and parts thereof from Germany. The period of review (POR) is May 1, 2011, through September 14, 2011.¹ We preliminarily find that subject merchandise has not been sold at less than normal value.

¹ On September 15, 2011, the Department revoked the order on ball bearings and parts thereof from Germany as the conclusion of a sunset review. See Ball Bearings and Parts Thereof From France, Germany and Italy: Final Results of Sunset Reviews and Revocation of Antidumping Duty Orders, 76 FR 57019, (September 15, 2011) (Third Sunset Review). Therefore, the POR ends on September 14, 2011.

DATES: Effective Date: February 11, 2013.

FOR FURTHER INFORMATION CONTACT: Catherine Cartsos or Minoo Hatten, AD/CVD Operations, Office 1, Import Administration, International Trade Administration, U.S. Department of Commerce, 14th Street and Constitution Avenue NW., Washington, DC 20230; telephone: (202) 482-1757 or (202) 482-1690, respectively.

SUPPLEMENTARY INFORMATION:

Scope of the Order

The merchandise subject to the order is ball bearings and parts thereof. The ball bearings and parts thereof subject to the order are currently classifiable under subheadings 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80 of the Harmonized Tariff Schedule of the United States (HTSUS). The HTSUS numbers are provided for convenience and customs purposes. A full description of the scope of the order is contained in the memorandum from Christian Marsh, Deputy Assistant Secretary for Antidumping and Countervailing Duty Operations, to Paul Piquado, Assistant Secretary for Import Administration, “Decision Memorandum for Preliminary Results and Partial Rescission of Antidumping Duty Administrative Review: Ball Bearings and Parts Thereof from Germany” dated concurrently with this notice (“Preliminary Decision Memorandum”), which is hereby adopted by this notice. The written description is dispositive.

The Preliminary Decision Memorandum is a public document and is on file electronically via Import Administration's Antidumping and Countervailing Duty Centralized Electronic Service System (“IA ACCESS”). Access to IA ACCESS is available to registered users at http://iaaccess.trade.gov and is available to all parties in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Rescission of Review in Part

In accordance with 19 CFR 351.213(d), we are rescinding the review with respect to Kongskilde Limited, Schaeffler Technologies GmbH & Co. KG (formerly known as Schaeffler KG), and SKF GmbH because, subsequent to the initiation of this review, we received timely withdrawals of the requests for review we received for these companies. See Preliminary Decision Memorandum.

Selection of Respondents for Individual Examination

Due to the large number of companies in this review and the resulting administrative burden of examining each company for which a review was initiated, the Department, in accordance to section 777A(c)(2) of the Tariff Act of 1930, as amended (Act), exercised its authority to limit the number of respondents selected for individual examination in this review. We selected myonic GmbH (myonic) for individual examination. See Preliminary Decision Memorandum.

Methodology

The Department has conducted this review in accordance with section 751(a)(2) of the Act. Constructed export price is calculated in accordance with section 772 of the Act. Normal value is calculated in accordance with section 773 of the Act. In accordance with section 773(b) of the Act, we disregarded certain sales by myonic in the home market which were made at below-cost prices. For a full description of the methodology underlying our conclusions, see Preliminary Decision Memorandum.

Rates for Respondents Not Selected for Individual Examination

The Department looks to section 735(c)(5) of the Act, which provides instructions for calculating the all-others rate in an investigation for guidance, and concludes that a reasonable method for determining the weighted-average dumping margins for the respondents not selected for individual examination in this review is to assign the rate calculated for myonic, which is the sole company selected for individual examination. For a full description of the methodology we used in calculating the rates for respondents not selected for individual examination, see Preliminary Decision Memorandum.

Preliminary Results of Review

As a result of this review, we preliminarily determine that the following weighted-average dumping margins exist for the respondents for the May 1, 2011, through September 14, 2011.

Manufacturer/exporter | Weighted-average dumping margin (Percent)
Audi AG | 0.00
Bayerische Motoren Werke AG | 0.00
myonic GmbH | 0.00
Volkswagen AG | 0.00
Volkswagen Zubehor GmbH | 0.00
W&H Dentalwerk Burmoos GmbH | 0.00

Disclosure and Public Comment

Pursuant to 19 CFR 351.309(c), interested parties may submit cases briefs not later than 30 days after the date of publication of this notice. Rebuttal briefs, limited to issues raised in the case briefs, may be filed not later than five days after the date for filing case briefs. Parties who submit case briefs or rebuttal briefs in this proceeding are encouraged to submit with each argument: (1) A statement of the issue; (2) a brief summary of the argument; and (3) a table of authorities.

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5 p.m. Eastern Standard Time within 30 days after the date of publication of this notice. Requests should contain: (1) The party's name, address and telephone number; (2) the number of participants; and (3) a list of issues to be discussed. Issues raised in the hearing will be limited to those raised in the party's respective case briefs. The Department intends to issue the final results of this administrative review, including the results of its analysis of the issues raised in any written briefs, not later than 120 days after the date of publication of this notice, pursuant to section 751(a)(3)(A) of the Act.

Assessment Rates

Upon completion of the administrative review, the Department shall determine and U.S. Customs and Border Protection (CBP) shall assess antidumping duties on all appropriate entries. If myonic's weighted-average dumping margin is above de minimis in the final results of this review, we will calculate an importer-specific assessment rate on the basis of the ratio of the total amount of dumping calculated for the importer's examined sales and the total entered value of those sales in accordance with 19 CFR 351.212(b)(1). If myonic's weighted-average dumping margin continues to be zero or de minimis in the final results of review, we will instruct CBP not to assess antidumping duties on its entries in accordance with the Final Modification for Reviews, i.e., “{w}here the weighted-average margin of dumping for the exporter is determined to be zero or de minimis, no antidumping duties will be assessed.” ²

² See Antidumping Proceedings: Calculation of the Weighted-Average Dumping Margin and Assessment Rate in Certain Antidumping Proceedings: Final Modification, 77 FR 8101, 80102 (February 14, 2012).

The Department clarified its “automatic assessment” regulation on May 6, 2003. This clarification will apply to entries of subject merchandise during the POR produced by myonic, which is the company selected for individual examination in this review, for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

For the companies which are not selected for individual examination, we will instruct CBP to apply the rates listed above to all entries of subject merchandise produced and/or exported by those firms.

We intend to issue instructions to CBP 15 days after publication of the final results of this review.

Subject merchandise of the companies for which we are rescinding the review will be assessed antidumping duties at rates equal to the cash deposit of estimated antidumping duties required at the time of entry, or withdrawal from warehouse, for consumption, in accordance with 19 CFR 351.212(c)(1)(i). The Department intends to issue assessment instructions to CBP 15 days after the date of publication of this notice.

Cash Deposit Requirements

Because the antidumping duty order on ball bearings and parts thereof from Germany has been revoked as a result of the Third Sunset Review, the Department will not issue cash deposit instructions at the conclusion of this administrative review.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Act.

Dated: February 4, 2013.
Paul Piquado,
Assistant Secretary for Import Administration.

Appendix I

List of Topics Discussed in the Preliminary Decision Memorandum

1. Scope of the Order

3. Selection of Respondents for Individual Examination

4. Rescission of Review in Part

5. Rates for Respondents Not Selected for Individual Examination

6. Constructed Export Price

7. Home Market Sales

8. Cost of Production

9. Model Match Methodology

10. Normal Value

11. Constructed Value

12. Level of Trade

13. Currency Conversion

[FR Doc. 2013-03069 Filed 2-8-13; 8:45 am]

BILLING CODE 3510-DS-P